FEDERAL COMMUNICATIONS COMMISSION

47 CFR Part 73

[DA 05-1151; MB Docket No. 05-177]

Radio Broadcasting Services; Bairoil and Sinclair, WY

AGENCY: Federal Communications Commission.

ACTION: Proposed rule.

SUMMARY: The Audio Division, on its own motion, proposes the substitution of Channel 235A for vacant Channel 265A at Bairoil, Wyoming and the substitution of Channel 267C for vacant Channel 262C at Sinclair, Wyoming. The existing allotments at Bairoil and Sinclair are not in compliance with the minimum distance separation requirements of Section 73.207(b) of the Commission's Rules. The existing Channel 265A at Bairoil and existing Channel 262C at Sinclair are short-spaced to each other by 57.2 kilometers. The minimum distance spacing requirement for these allotments is 95 kilometers. Additionally, Channel 262C at Sinclair is short-spacing to licensed FM Station KYOD, Channel 261C1, Glendo, Wyoming by 186.4 kilometers. The minimum distance spacing requirement is 209 kilometers. A staff engineering analysis has determined that Channel 235A can be allotted to Bairoil, Wyoming in conformity with the Commission's rules without a site restriction at coordinates 42-14-40 NL and 107-33-32 WL. Moreover, Channel 267C can be allotted to Sinclair, Wyoming consistent with the minimum distance separation requirements of Section 73.207(b) of the Commission's rules, provided there is a site restriction of 9.6 kilometers (6 miles) west at coordinates 41-46-19 NL and 107-13-40 WL.

DATES: Comments must be filed on or before June 20, 2005 and reply comments on or before July 5, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Notice of Proposed Rule Making, MB Docket No. 05-177, adopted April 25, 2005, and released April 27, 2005. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The FM Table of Allotments lists Channel 281A in lieu of Channel 265A at Bairoil, Wyoming. Channel 281A was inadvertently added to Bairoil. See 65 FR 45720, published July 25, 2000.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Wyoming, is amended by removing Channel 281A and adding Channel 235A at Bairoil and by removing Channel 262C and adding Channel 267C at Sinclair.

Federal Communications Commission.
John A. Karousos,
Assistant Chief, Audio Division, Media Bureau.

[FR Doc. 05-9292 Filed 5-10-05; 8:45 am]

BILLING CODE 6712-01-P